SELECTIVE SERVICE SYSTEM

32 CFR Parts 1602, 1605, 1609 and 1656

RIN 3240-AA01

Alternative Service Worker Appeals of Denied Job Reassignments

AGENCY: Selective Service System.

ACTION: Notice of proposed rulemaking.

SUMMARY: The Selective Service System (SSS) proposes to amend its regulations regarding the procedures for conscientious objectors, who have been placed in the Alternative Service Program as Alternative Service Workers (ASW), to appeal denied requests for job reassignments during a military draft. Civilian Review Boards (CRB), whose sole responsibility is to decide ASW appeals of denied job reassignments, would be abolished with their responsibilities transferred to the more numerous District Appeal Boards (DAB). Under existing regulations, the sole responsibility of DABs is to decide appeals of local board classification decisions. This organization change is necessary to ensure a more efficient and economical administration of the SSS. Its primary intended effect is to eliminate the administrative costs of maintaining separate appeal boards for ASWs without adversely impacting on the Agency's ability to expeditiously decide appeals of denied job reassignments or appeals of local board classification decisions. A secondary intended effect is to improve customer service to ASWs during a military draft.

DATES: Comments must be received on or before April 6, 2004.

ADDRESSES: You may submit comments by any of the following methods:

• Federal eRulemaking Portal: http://www.regulations.gov Follow the instructions for submitting comments.

• E-mail: information@sss.gov

• Mail: Rudy G. Sanchez, Jr., Office of the General Counsel, Selective Service System, Arlington, VA 22209-2425.

FOR FURTHER INFORMATION CONTACT: Technical Information: Thomas J. Hornada, (703) 605-4074; Mary B. Lawson, (703) 605-4077.

Legal Information: Rudy G. Sanchez, Jr., (703) 605-4012.

SUPPLEMENTARY INFORMATION:

Background

These proposed amendments to Selective Service regulations are published pursuant to section 13(b) of the Military Selective Service Act (MSSA), 50 U.S.C. App. 463(b), and Executive Order 11623. The regulations implement the MSSA (50 U.S.C. App. 451 et seq.), which authorizes the President to create and establish within the Selective Service System civilian local boards, civilian appeal boards, and such other civilian agencies, including agencies of appeal, as may be necessary to carry out its functions [50 U.S.C. App. 460(b)(3)]. Executive Order 11623 delegates to the Director of Selective Service the authority to prescribe the necessary rules and regulations to carry out the provisions of the MSSA.

Under existing regulations, 48 Civilian Review Boards (CRB) have been established to decide appeals of denied requests for job reassignments made by conscientious objectors who have been placed in the Alternative Service Program as Alternative Service Workers (ASW). The sole function of CRBs is to decide such appeals during a military draft. A determination has been made that maintaining CRBs is unnecessary for the Selective Service to carry out its functions.

Discussion of Proposal

It is proposed that the 48 CRBs be abolished with their responsibilities transferred to the 96 DABs, which are currently solely responsible for deciding appeals of local board classification decisions during a military draft. This conversion would have three significant benefits. First, it would eliminate the unnecessary administrative costs of maintaining separate boards for ASW appeals of denied job reassignments. Second, it would result in more frequent pre-mobilization training of board members on the requirements for deciding ASW appeals. Finally, customer service to ASWs would be improved by doubling the number of locations for them to appeal denied job reassignments. It has been determined that the proposed rule changes would not result in a significant increase in the workload of DABs, and its primary responsibility of deciding appeals of local board decisions would be unimpeded. If necessary to accommodate an unexpectedly high workload during a draft, the number of members on a DAB could be increased to create separate panels thereof.

To implement the proposed conversion, the following parts and sections in 32 CFR Chapter XVI must be amended: § 1602 .11—To change the definition of “District Appeal Board” to include the ability to act on cases in accordance with part 1656 (Alternative Service); § 1605.24—To give DABs jurisdiction to decide appeals of denied job reassignments; § 1609.1—To remove members of “civilian review boards” as uncompensated positions within Selective Service; § 1656.1—To remove the definition of “Civilian Review Board” and renumber the section's definitions accordingly; § 1656.3—To remove the paragraph establishing CRBs, and renumber the paragraphs accordingly; § 1656.13—To remove paragraph “e”, which requires the establishment of CRBs, and to re-letter the section's paragraphs accordingly; § 1656.18—To amend paragraph “c” for conformity of citations therein to the re-lettering of paragraphs in § 1656.13; Finally, throughout part 1656 several sections must be amended to remove the words, “Civilian Review Board”, and add the words, “District Appeal Board” in their place.

Matters of Proposed Rule Making Procedure

In promulgating these proposed amendments to Selective Service regulations, I have adhered to the regulatory philosophy and the applicable principles of regulation set forth in section 1 of Executive Order 12866, Regulatory Planning and Review. The proposed amendments have not been reviewed by the Office of Management and Budget under that Executive Order, as they are not deemed “significant” thereunder.

Pursuant to the requirements of the Regulatory Flexibility Act (Pub. L. 96-354, 94 Stat. 1164, 5 U.S.C. 601-612), I have determined that the proposed amendments do not have a significant economic impact on a substantial number of small entities.

The Paperwork Reduction Act (44 U.S.C. chapter 35) does not apply because this rule does not contain an information collection requirement that requires approval of the Office of Management and Budget.

Interested persons are invited to submit written comments on the proposed rule changes. All written comments received in response to this notice of proposed rulemaking will be available for public inspection in the Office of the General Counsel from 8:30 a.m. to 3:30 a.m., Monday through Friday, excluding legal holidays.

List of Subjects in 32 CFR Parts 1602, 1605, 1609, and 1656

Selective Service System.

For the reasons stated in the preamble, the Selective Service System proposes to amend 32 CFR parts 1602, 1605, 1609, and 1656 as follows:

PART 1602—DEFINITIONS

1. The authority citation for part 1602 continues to read as follows:

Authority: Military Selective Service Act (50 U.S.C. App. 451 et seq.); E.O. 11623.

2. Revise § 1602.11 to read as follows:

§ 1602.11 District appeal board.

A district appeal board or a panel thereof of the Selective Service System is a group of not less than three civilian members appointed by the President to act on cases of registrants in accord with the provisions of parts 1651 and 1656 of this chapter.

PART 1605—SELECTIVE SERVICE SYSTEM ORGANIZATION

1. The authority citation for part 1605 continues to read as follows:

Authority: Military Selective Service Act (50 U.S.C. App. 451 et seq.); E.O. 11623.

2. Amend § 1605.24 by redesignating the introductory text, paragraph (a), paragraph (b), and paragraph (c) as paragraph (a) introductory text, paragraph (a)(1), paragraph (a)(2) and paragraph (a)(3), respectively, and by adding paragraph (b) to read as follows:

§ 1605.24 Jurisdiction.

* * * * *

(b) The district appeal board shall have jurisdiction to review and to affirm or change any Alternative Service Office Manager decision appealed to it by an Alternative Service Worker pursuant to part 1656 of this chapter.

PART 1609—UNCOMPENSATED PERSONNEL

1. The authority citation for part 1609 continues to read as follows:

Authority: Military Selective Service Act (50 U.S.C. App. 451 et seq.); E.O. 11623.

2. Amend § 1609.1 by revising the first sentence to read as follows:

§ 1609.1 Uncompensated positions.

Members of local boards, district appeal boards, and all other persons volunteering their services to assist in the administration of the Selective Service Law shall be uncompensated. * * *

PART 1656—ALTERNATIVE SERVICE

1. The authority citation for part 1656 continues to read as follows:

Authority: Military Selective Service Act (50 U.S.C. App. 451 et seq.); E.O. 11623.

2. Amend part 1656, Alternative Service, to remove the words “Civilian Review Board” and add, in their place, the words “District Appeal Board”, in the following places:

a. Section 1656.11(b)(4)

b. Section 1656.13(d) and (f) and (g) and (h)

c. Section 1656.18(c)

§ 1656.1 [Amended]

3. Amend § 1656.1 to remove paragraph (b)(6) and redesignate paragraphs (b)(7) through (14) as paragraphs (b)(6) through (13).

§ 1656.3 [Amended]

4.-5. Amend § 1656.3 to remove paragraph (a)(10) and redesignate paragraphs (a)(11) through (13) as paragraphs (a)(10) through (12).

§ 1656.13 [Amended]

6.-7. Amend § 1656.13 by removing paragraph (e) and by redesignating paragraphs (f) through (h) as paragraphs (e) through (g).

§ 1656.18 [Amended]

8. Amend § 1656.18(c) by revising the phrase “§ 1656.13(c) or (g)” to read “§ 1656.13(c) or (f)”.

Dated: January 28, 2004.
Lewis C. Brodsky,
Acting Director of Selective Service.

[FR Doc. 04-2427 Filed 2-5-04; 8:45 am]

BILLING CODE 8015-01-P